DEPARTMENT OF STATE

[Public Notice: 12754]

Bureau of Political-Military Affairs, Directorate of Defense Trade Controls: Notifications to the Congress of Proposed Commercial Export Licenses

AGENCY: Department of State.

ACTION: Notice.

SUMMARY: The Directorate of Defense Trade Controls and the Department of State give notice that the attached Notifications of Proposed Commercial Export Licenses were submitted to the Congress on the dates indicated.

DATES: The dates of notification to Congress are as shown on each of the 27 Letters.

FOR FURTHER INFORMATION CONTACT: Ms. Paula C. Harrison, Directorate of Defense Trade Controls (DDTC), Department of State at (202) 663-3310; or access the DDTC website at https://www.pmddtc.state.gov/ddtc public and select “Contact DDTC,” then scroll down to “Contact the DDTC Response Team” and select “Email.” Please add this subject line to your message, “ATTN: Congressional Notification of Licenses.”

SUPPLEMENTARY INFORMATION: Section 36(f) of the Arms Export Control Act (22 U.S.C. 2776) requires that notifications to the Congress pursuant to sections 36(c) and 36(d) be published in the Federal Register in a timely manner.

The following comprise recent such notifications and are published to give notice to the public.

January 13, 2025

Congressional Notification Transmittal Letter

Please find enclosed the following notification from the Department of State.

Department Notification Number: DDTC 24-075.

Pursuant to Section 36(c) of the Arms Export Control Act, please find enclosed a certification of a proposed license for the export of defense articles, including technical data, and defense services in the amount of $50,000,000 or more.

The transaction contained in the attached certification involves the export of defense articles, including technical data, and defense services to Denmark to support operations, maintenance, modification, and sustainment of fighter aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

February 7, 2025

Congressional Notification Transmittal Letter

Please find enclosed the following notification from the Department of State.

Department Notification Number: DDTC 24-052.

Pursuant to Section 36(c) of the Arms Export Control Act, please find enclosed a certification of a proposed license amendment for the export of defense articles, including technical data, and defense services in the amount of $100,000,000 or more.

The transaction contained in the attached certification involves the export of defense articles, including technical data, and defense services to Israel of Joint Direct Attack Munition tail kits and Small Diameter Bomb Increment I variants.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

February 11, 2025

Congressional Notification Transmittal Letter

Please find enclosed the following notification from the Department of State.

Department Notification Number: DDTC 24-031.

Pursuant to Section 36(c) of the Arms Export Control Act, please find enclosed a certification of a proposed license for the export of defense articles, including technical data, and defense services in the amount of $50,000,000 or more.

The transaction contained in the attached certification involves the export of defense articles, including technical data, and defense services to the UAE for the assembly, installation, integration, maintenance, training and support for fully automatic weapons systems and related equipment.

The U.S. government is prepared to license, the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

February 11, 2025

Congressional Notification Transmittal Letter

Please find enclosed the following notification from the Department of State.

Department Notification Number: DDTC 24-102.

Pursuant to Section 36(c) of the Arms Export Control Act, please find enclosed a certification of a proposed license for the export of defense articles, including technical data, and defense services in the amount of $100,000,000 or more.

The transaction contained in the attached certification involves the export of defense articles, including technical data, and defense services to Canada to support the procurement, stand-up, and sustainment of an unmanned aerial system (UAS) program.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

February 13, 2025

Congressional Notification Transmittal Letter

Please find enclosed the following notification from the Department of State.

Department Notification Number: DDTC 24-062.

Pursuant to Section 36(c) of the Arms Export Control Act, please find enclosed a certification of a proposed license amendment for the export of defense articles, including technical data, and defense services in the amount of $100,000,000 or more.

The transaction contained in the attached certification involves the export of defense articles, including technical data, and defense services to Japan to support the operation, installation, and maintenance of a ship defense weapon system.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

February 13, 2025

Congressional Notification Transmittal Letter

Please find enclosed the following notification from the Department of State.

Department Notification Number: DDTC 24-074.

Pursuant to Section 36(c) of the Arms Export Control Act, please find enclosed a certification of a proposed agreement amendment for the export of defense articles, including technical data, and defense services in the amount of $50,000,000 or more.

The transaction contained in the attached certification involves the export of defense articles, including technical data, and defense services to Singapore for the design, development, integration, testing, installation, maintenance, training, and support of flight simulators and trainers.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

February 13, 2025

Congressional Notification Transmittal Letter

Please find enclosed the following notification from the Department of State.

Department Notification Number: DDTC 24-083.

Pursuant to Section 36(c) of the Arms Export Control Act, please find enclosed a certification of a proposed license amendment for the export of defense articles, including technical data, and defense services in the amount of $100,000,000 or more.

The transaction contained in the attached certification involves the export of defense articles, including technical data, and defense services to Canada, Denmark, Germany, Italy, Luxembourg, Norway, Poland, and the United Kingdom for modification and. upgrade activities, the provision of post-design services, additional initial spares, and in-service support activities for a ground surveillance unmanned aerial vehicle program.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

February 13, 2025

Congressional Notification Transmittal Letter

Please find enclosed the following notification from the Department of State.

Department Notification Number: DDTC 24-086.

Pursuant to Section 36(c) of the Arms Export Control Act, please find enclosed a certification of a proposed license amendment for the export of defense articles, including technical data, and defense services in the amount of $100,000,000 or more.

The transaction contained in the attached certification involves the export of defense articles, including technical data and defense services, to the Netherlands and the UK to support the manufacture, production, and test of wiring and fiber optic harnesses for fighter aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

February 13, 2025

Congressional Notification Transmittal Letter

Please find enclosed the following notification from the Department of State.

Department Notification Number: DDTC 24-096.

Pursuant to Section 36(c) of the Arms Export Control Act, please find enclosed a certification of a proposed license for the export of firearms, parts, and components controlled under Category I of the U.S. Munitions List in the amount of $1,000,000 or more.

The transaction contained in the attached certification involves the export of 5.56mm fully automatic rifles and suppressors to the UK.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Philip G. Laidlaw,

Acting Assistant Secretary, Bureau of Legislative Affairs.

March 3, 2025

Congressional Notification Transmittal Letter

Please find enclosed the following notification from the Department of State.

Department Notification Number: DDTC 24-084.

Pursuant to Section 36(c) of the Arms Export Control Act, please find enclosed a certification of a proposed license for the export of defense articles, including technical data, and defense services in the amount of $100,000,000 or more.

The transaction contained in the attached certification involves the export of defense articles, including technical data, and defense services to Japan to support the acquisition of unmanned aircraft systems for the purpose of maritime intelligence, surveillance, and reconnaissance capabilities.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 3, 2025

Congressional Notification Transmittal Letter

Please find enclosed the following notification from the Department of State.

Department Notification Number: DDTC 24-089.

Pursuant to Sections 36(c) and 36(d) of the Arms Export Control Act, please find enclosed a certification of a proposed license for the export of defense articles, including technical data, and defense services in the amount of $100,000,000 or more and the manufacture of significant military equipment abroad.

The transaction contained in the attached certification involves the export of defense articles, including technical data, and defense services to Japan to support the manufacture of rotary wing aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 3, 2025

Congressional Notification Transmittal Letter

Please find enclosed the following notification from the Department of State.

Department Notification Number: DDTC 24-098.

Pursuant to Section 36(c) of the Arms Export Control Act, please find enclosed a certification of a proposed license for the export of firearms, parts, and components controlled under Category I of the U.S. Munitions List in the amount of $1,000,000 or more.

The transaction contained in the attached certification involves the export of .50 caliber and 7.62mm machine guns to Ukraine.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 3, 2025

Congressional Notification Transmittal Letter

Please find enclosed the following notification from the Department of State.

Department Notification Number: DDTC 24-104.

Pursuant to Section 36(c) of the Arms Export Control Act, please find enclosed a certification of a proposed license for the export of firearms, parts, and components controlled under Category I of the U.S..Munitions List in the amount of $1,000,000 or more.

The transaction contained in the attached certification involves the export of 7.62mm fully automatic machine guns to Colombia.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 3, 2025

Congressional Notification Transmittal Letter

Please find enclosed the following notification from the Department of State.

Department Notification Number: DDTC 24-106.

Pursuant to Section 36(c) of the Arms Export Control Act, please find enclosed a certification of a proposed license for the export of defense articles, including technical data, and defense services in the amount of $100,000,000 or more.

The transaction contained in the attached certification involves the export of defense articles, including technical data, and defense services to Lithuania, Norway, Poland, and Finland to support a Surface-to-Air Missile System Program.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 3, 2025

Congressional Notification Transmittal Letter

Please find enclosed the following notification from the Department of State.

Department Notification Number: DDTC 23-077.

Pursuant to Section 36(c) of the Arms Export Control Act, please find enclosed a certification of a proposed license for the export of firearms, parts, and components controlled under Category I of the U.S. Munitions List in the amount of $1,000,000 or more.

The transaction contained in the attached certification involves the export to Israel of 5.56mm fully automatic rifles.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 3, 2025

Congressional Notification Transmittal Letter

Please find enclosed the following notification from the Department of State.

Department Notification Number: DDTC 23-085.

Pursuant to Section 36(c) of the Arms Export Control Act, please find enclosed a certification of a proposed license for the export of firearms, parts, and components controlled under Category I of the U.S. Munitions List in the amount of $1,000,000 or more.

The transaction contained in the attached certification involves the export to Israel of fully automatic rifles.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 6, 2025

Congressional Notification Transmittal Letter

Please find enclosed the following notification from the Department of State.

Department Notification Number: DDTC 23-086.

Pursuant to Section 36(c) of the Arms Export Control Act, please find enclosed a certification of a proposed license for the export of firearms, parts, and components controlled under Category I of the U.S. Munitions List in the amount of $1,000,000 or more.

The transaction contained in the attached certification involves the export to Israel of 5.56mm fully automatic rifles.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 10, 2025

Congressional Notification Transmittal Letter

Please find enclosed the following notification from the Department of State.

Department Notification Number: DDTC 24-081.

Pursuant to Section 36(c) and 36(d) of the Arms Export Control Act, please find enclosed a certification of a proposed license amendment for the export of defense articles, including technical data, and defense services in the amount of $50,000,000 or more and the manufacture of significant military equipment abroad.

The transaction contained in the attached certification involves the export of defense articles, including technical data, and defense services to the Republic of Korea for the manufacture, assembly, inspection, and testing of engines for military aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 12, 2025

Congressional Notification Transmittal Letter

Please find enclosed the following notification from the Department of State.

Department Notification Number: DDTC 23-014.

Pursuant to Section 36(c) of the Arms Export Control Act, please find enclosed a certification of a proposed license amendment for the export of defense articles, including technical data, and defense services in the amount of $50,000,000 or more.

The transaction contained in the attached certification involves the export of defense articles, including technical data, and defense services to Türkiye to support the operational support, maintenance, and overhaul, up to and including depot level, of aircraft engines.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 12, 2025

Congressional Notification Transmittal Letter

Please find enclosed the following notification from the Department of State.

Department Notification Number: DDTC 24-085.

Pursuant to Section 36(c) of the Arms Export Control Act, please find enclosed a certification of a proposed license for the export of defense articles, including technical data, and defense services in the amount of $50,000,000 or more.

The transaction contained in the attached certification involves the export of defense articles, including technical data, and defense services to Saudi Arabia to support the marketing, sale, demonstration, intermediate repair, testing, modification, update, upgrade, enhancement, operation, and maintenance training related to unmanned aircraft systems.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 19, 2025

Congressional Notification Transmittal Letter

Please find enclosed the following notification from the Department of State.

Department Notification Number: DDTC 24-078.

Pursuant to Section 36(c) and 36(d) of the Arms Export Control Act, please find enclosed a certification of a proposed license amendment for the manufacture of significant military equipment abroad and the export of defense articles, including technical data, and defense services in the amount of $100,000,000 or more.

The transaction contained in the attached certification involves the export of defense articles, including technical data, and defense services to Japan for the design, manufacture, test, overhaul, maintenance, repair, and operation of radar system retrofit kits for fighter aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representative

House Committee on Foreign Affairs

Senate Committee on Foreign Relations

Sincerely,

Paul D. Guaglianone,

Senior Bureau Official, Bureau of Legislative Affairs.

March 19, 2025

Congressional Notification Transmittal Letter

Please find enclosed the following notification from the Department of State.

Department Notification Number: DDTC 24-097.

Pursuant to Section 36(c) of the Arms Export Control Act, please find enclosed a certification of a proposed license for the export of firearms, parts, and components controlled under Category I of the U.S. Munitions List in the amount of $1,000,000 or more.

The transaction contained in the attached certification involves the export of fully automatic rifles, machine guns, and suppressors to Kuwait.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 25, 2025

Congressional Notification Transmittal Letter

Please find enclosed the following notification from the Department of State.

Department Notification Number: DDTC 24-114.

Pursuant to Section 36(c) of the Arms Export Control Act, please find enclosed a certification of a proposed license for the export of firearms, parts, and components controlled under Category I of the U.S. Munitions List in the amount of $1,000,000 or more.

The transaction contained in the attached certification involves the export of 5.56mm fully automatic bolt carrier groups to Ukraine.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 25, 2025

Congressional Notification Transmittal Letter

Please find enclosed the following notification from the Department of State.

Department Notification Number: DDTC 24-117.

Pursuant to Section 36(c) of the Arms Export Control Act, please find enclosed a certification of a proposed license for the export of defense articles, including technical data and defense services, in the amount of $100,000,000 or more.

The transaction contained in the attached certification involves the export of defense articles, including technical data, and defense services to Italy and Israel to support the modification of a commercial aircraft to a military aircraft.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 25, 2025

Congressional Notification Transmittal Letter

Please find enclosed the following notification from the Department of State.

Department Notification Number: DDTC 25-015.

Pursuant to Section 36(c) of the Arms Export Control Act, please find enclosed a certification of a proposed license for the export of firearms, parts, and components controlled under Category I of the U.S. Munitions List in the amount of $1,000,000 or more.

The transaction contained in the attached certification involves the export of 5.45 x 39mm steel core ammunition to Ukraine.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 27, 2025

Congressional Notification Transmittal Letter

Please find enclosed the following notification from the Department of State.

Department Notification Number: DDTC 17-047.

Pursuant to Section 36(c) of the Arms Export Control Act, please find enclosed a certification of a proposed license for the export of defense articles, including technical data and defense services, in the amount of $100,000,000 or more.

The transaction contained in the attached certification involves the export of defense articles, including technical data and defense services, to Türkiye and Luxembourg to support the integration and marketing of the Joint Direct Attack Munition Weapon System.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Official, Bureau of Legislative Affairs.

March 27, 2025

Congressional Notification Transmittal Letter

Please find enclosed the following notification from the Department of State.

Department Notification Number: DDTC 24-100.

Pursuant to Section 36(c) of the Arms Export Control Act, please find enclosed a certification of a proposed license for the export of defense articles, including technical data, and defense services in the amount of $50,000,000 or more.

The transaction contained in the attached certification involves the export of defense articles, including technical data, and defense services to the Republic of Korea and Norway to support the integration, installation, test, operation, performance of intermediate level maintenance on, and use of, navigation products for self-propelled howitzer programs.

The U.S. government is prepared to license the export of these items having taken into account political, military, economic, human rights, and arms control considerations.

More detailed information is contained in the formal certification which, though unclassified, contains business information submitted to the Department of State by the applicant, publication of which could cause competitive harm to the U.S. firm concerned.

Recipients:

Speaker of the House of Representatives

House Committee on Foreign Affairs

Senate Committee on Foreign Relations

Sincerely,

Paul D. Guaglianone,

Senior Bureau Bureau of Legislative Affairs.

Michael J. Vaccaro,
Deputy Assistant Secretary, Directorate of Defense Trade Controls, U.S. Department of State.

[FR Doc. 2025-13419 Filed 7-16-25; 8:45 am]

BILLING CODE 4710-25-P